DEPARTMENT OF HEALTH AND HUMAN SERVICES

42 CFR Part 71

[Docket No. CDC-2016-0068]

RIN 0920-AA63

Control of Communicable Diseases; Correction

AGENCY: Centers for Disease Control and Prevention (CDC), Department of Health and Human Services (HHS).

ACTION: Final rule; correcting amendments.

SUMMARY: The Centers for Disease Control and Prevention (CDC) in the Department of Health and Human Services (HHS) announces technical corrections to the final rule (82 FR 6890) published on January 19, 2017. These technical corrections remove grammatical errors, remove a reference to reports of deaths or illness by “radio,” change regulatory text to match previously updated and approved language, and amend a reporting date for a retrospective review so that the date does not coincide with a Federal holiday.

DATES: These correcting amendments are effective July 10, 2017.

FOR FURTHER INFORMATION CONTACT: Jennifer Buigut, Division of Global Migration and Quarantine, Centers for Disease Control and Prevention, 1600 Clifton Road NE., MS-E03, Atlanta, Georgia 30329. Telephone: (404) 498-1600.

SUPPLEMENTARY INFORMATION: On January 19, 2017, HHS/CDC published a final rule that included some technical errors (82 FR 6890). HHS/CDC is correcting those technical errors in this document. A summary of those corrections follows below.

Section 553(b)(B) of the Administrative Procedure Act (APA), 5 U.S.C. 553(b)(B), provides that, when an agency for good cause finds that notice and public procedure are impracticable, unnecessary, or contrary to the public interest, the agency may issue a rule without providing notice and an opportunity for public comment. We have determined that it is unnecessary to provide prior notice and the opportunity for public comment because the technical corrections being made, as discussed below, address only minor publication errors that do not substantially change agency actions taken in the final rule. For the same reasons we find good cause to make these corrections effective on publication.

Summary of Technical Corrections to 42 CFR 71 Foreign Quarantine

The final rule contains two sections, respectively, relating to the transmission of passenger and crew information for airlines and vessels, sections 71.4 and 71.5. Section 71.4 is titled, “Requirements relating transmission of airline passenger, crew and flight information for public health purposes.” Section 71.5 is titled, “Requirements relating transmission of vessel passenger, crew, and voyage information for public health purposes.” We are changing the title of 71.4 by adding “to the” in between “relating” and “transmission” and by adding a comma after “crew.” We are changing the title of 71.5 by adding “to the” in between “relating” and “transmission.”

The final rule lists two different dates for a retrospective review report evaluating the burden of transmission of passenger and crew information for airlines and vessels. Section 71.4 lists February 18, 2019 while Section 71.5 lists February 21, 2019. Since February 18, 2019 is President's Day, a Federal holiday, and the Federal Register is not published on Federal holidays, we are changing the date of the report in Section 71.4 to February 21, 2019.

In the preamble of both the proposed rule (81 FR 54230) and the final rule (82 FR 6890), HHS/CDC discussed deleting the term “radio” from Section 71.21 because the term is antiquated, but failed to make the change in the regulatory text. The term “radio” still appears in the regulatory text and in the Table of Contents. This technical correction deletes this term.

Finally, also in Section 71.21, HHS/CDC is changing the term “diarrhea” to “acute gastroenteritis (AGE).” This change was discussed in the final rule and is consistent with the language found in CDC's Vessel Sanitation Program Manual. See https://www.cdc.gov/nceh/vsp/pub/pub.htm.

List of Subjects in 42 CFR Part 71

Apprehension, CDC, Communicable diseases, Conditional release, Director, Ill person, Isolation, Non-invasive, Public health emergency, Public health prevention measures, Quarantine, Quarantinable communicable diseases.

PART 71—FOREIGN QUARANTINE

1. The authority citation for part 71 continues to read as follows:

Authority: Secs. 215 and 311 of Public Health Service (PHS) Act. as amended (42 U.S.C. 216, 243); secs. 361-369, PHS Act, as amended (42 U.S.C. 264-272).

2. In § 71.4, amend the section heading and paragraph (c) to read as follows:

§ 71.4 Requirements relating to the transmission of airline passenger, crew, and flight information for public health purposes.

* * * * *

(c) No later than February 21, 2019, the Secretary or Director will publish and seek comment on a report evaluating the burden of this section on affected entities and duplication of activities in relation to mandatory passenger data submissions to DHS/CBP. The report will specifically recommend actions that streamline and facilitate use and transmission of any duplicate information collected.

3. In § 71.5, revise the section heading to read as follows:

§ 71.5 Requirements relating to the transmission of vessel passenger, crew, and flight information for public health purposes.

* * * * *

4. In § 71.21, revise the section heading to read as follows:

§ 71.21 Report of death or illness.

5. In 71.21, revise paragraph (c) to read as follows:

§ 71.21 Report of death or illness.

* * * * *

(c) In addition to paragraph (a) of this section, the master of a ship carrying 13 or more passengers must report 24 hours before arrival the number of cases (including zero) of acute gastroenteritis (AGE) in passengers and crew recorded in the ship's medical log during the current cruise. All cases of acute gastroenteritis (AGE) that occur after the 24 hour report must also be reported not less than 4 hours before arrival.

* * * * *

Dated: June 30, 2017.
Thomas E. Price,
Secretary, Department of Health and Human Services.

[FR Doc. 2017-14393 Filed 7-7-17; 8:45 am]

BILLING CODE 4163-18-P